DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2009, there were nine applications approved. This notice also includes information on six applications, approved in September 2009, inadvertently left off the September 2009 notice. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Burbank-Glendale-Pasadena Airport Authority, Burbank, California.

Application Number: 09-09-C-00-BUR.

Application Type: Impose and use a PFC.

PFC Level: $4.50.

Total PFC Revenue Approved in This Decision: $20,465,000.

Earliest Charge Effective Date: April 1, 2013.

Estimated Charge Expiration Date: January 1, 2025.

Class of Air Carriers Not Required To Collect PFCs: Nonscheduled/on-demand air carriers filing FAA Form 1800-31.

Determination: Approved. Based on information contained in the public agency's application, the FAA has determined that the approved class accounts for less than 1 percent of the total annual enplanements at Bob Hope Airport.

Brief Description of Projects Approved for Collection and Use at a $4.50 PFC Level:

Engineered material arresting system extension.

Airfield infrastructure improvements.

Aircraft rescue and firefighting vehicle.

Brief Description of Project Partially Approved for Collection and Use at a $4.50 PFC Level: Parking lot A relocation.

Determination: Partially approved for collection and use. The approval is limited to the cost associated with the removal and demolition, minus any salvage value, of the existing facility.

Brief Description of Projects Approved for Collection and Use at a $3.00 PFC Level:

Passenger improvements—terminal A baggage claim.

Airport facility/building improvements—high voltage/switchgear replacement and public address system upgrade.

Airport facility/building improvements—main entrance sign.

Airfield generator.

Noise monitoring system.

Brief Description of Project Partially Approved for Collection and Use at a $3.00 PFC Level: Information improvements—common use passenger processing system.

Determination: Revenue-producing equipment, including check-in ticket units and telephones, is not PFC eligible.

Brief Description of Project Approved for Use at a $450 PFC Level: Taxiway D extension.

Decision Date: September 28, 2009.

FOR FURTHER INFORMATION CONTACT: Darlene Williams, Los Angeles Airports District Office, (310) 725-3625.

Public Agency: Port of Pasco, Pasco, Washington.

Application Number: 09-07-C-00-PSC.

Application Type: Impose and use a PFC.

PFC Level: $4.50.

Total PFC Revenue Approved in this Decision: $2,884,950.

Earliest Charge Effective Date: November 1, 2013.

Estimated Charge Expiration Date: October 1, 2021.

Class of Air Carriers Not Required To Collect PFC's: None.

Brief Description of Projects Approved for Collection and Use:

Security access control system.

Terminal access road reconstruction.

Taxiway D reconstruction (runway 3L to taxiway A).

North end runway 12/30 rehabilitation.

Runway 3L/21 R rehabilitation.

Master plan study.

Acquire aircraft rescue and firefighting equipment.

Construct aircraft rescue and firefighting building.

Acquire interactive training system.

Runway 3L121R—12/30 intersection rehabilitation.

PFC administration.

Decision Date: September 29, 2009.

FOR FURTHER INFORMATION CONTACT: Trang Tran, Seattle Airports District Office, (425) 227-1662.

Public Agency: San Diego County Regional Airport Authority, San Diego, California.

Application Number: 09-07-C-00-SAN.

Application Type: Impose and use a PFC. PFC Level: $4.50.

Total PFC Revenue Approved in this Decision: $85,181,950.

Earliest Charge Effective Date: December 1, 2009.

Estimated Charge Expiration Date: October 1, 2012.

Class of Air Carriers Not Required To Collect PFC's: Non-scheduled/on demand air carriers (air taxi/commercial operators) filing FAA Form 1800-31.

Determination: Approved. Based on information contained in the public agency's application, the FAA has determined that the approved class accounts for less than 1 percent of the total annual enplanements at San Diego International Airport.

Brief Description of Projects Approved for Collection and Use at a $4.50 PFC Level:

Terminal improvements—gate 1A reconfiguration.

Air cargo ramp improvements.

Aircraft rescue and firefighting vehicle.

Noise mitigation—quieter home program, phase IV.

Terminal planning and schematic design.

Brief Description of Projects Approved for Collection and Use at a $3.00 PFC Level:

Expand terminal 2 east facilities.

Terminal 12 kV service upgrade—phase II.

Brief Description of Project Paritally Approved for Collection and Use at a $3.00 PFC Level: Replace/protect terminal 1 escalators.

Determination: Partially approved for collection and use. The FAA determined that the installation of video monitoring equipment at various locations within the escalator areas is not PFC-eligible because the purpose of the monitoring system is to allow airport personnel to monitor the operational efficiency of the escalators.

Brief Description of Withdrawn Project: Runway 9 displaced threshold relocation.

Date of Withdrawal: September 17, 2009.

Decision Date: September 30, 2009.

FOR FURTHER INFORMATION CONTACT: Darlene Williams, Los Angeles Airports District Office, (310) 725-3625.

Public Agency: County of Broward, Fort Lauderdale, Florida.

Application Number: 09-10-C-00-FLL.

Application Type: Impose and use a PFC. PFC Level: $4.50.

Total PFC Revenue Approved in this Decision: $223,211,000.

Earliest Charge Effective Date: October 1, 2012.

Estimated Charge Expiration Date: February 1, 2018.

Class of Air Carriers Not Required To Collect PFC's: Non-scheduled/on-demand air carriers.

Determination: Approved. Based on information contained in the public agency's application, the FAA has determined that the approved class accounts for less than 1 percent of the total annual enplanements at Fort Lauderdale—Hollywood International Airport.

Brief Description of Projects Approved for Collection and Use at a $4.50 PFC Level:

Relocate security gates.

Very-high-frequency omni-directional range relocation.

Security administration system.

Runway overlay.

Brief Description of Projects Partially Approved for Collection and Use at a $4.50 PFC Level: Terminal 4 redevelopment.

Determination: Partially approved for collection and use. The FAA determined that the construction of new airport administrative, Transportation Security Administration, and Customs offices is not PFC eligible. Terminal area apron.

Determination: Partially approved for collection and use. The FAA determined that the public agency did not provide justification for the inclusion of the hydrant fueling line item in this project. In addition, the cost estimate included an amount for design of the Concourse A project however the public agency did not include a description or justification of this work element in the PFC application. Therefore, PFC revenue may not be used for the hydrant fueling or design of Concourse A work elements.

Brief Description of Projects Approved for Collection and Use at a $3.00 PFC Level:

Runway 9R127L design and program management.

Loading bridges.

Apron lighting.

Decision Date: September 30, 2009.

FOR FURTHER INFORMATION CONTACT: Dean Stringer, Orlando Airports District Office, (407) 812-6331.

Public Agency: City of Killeen, Texas.

Application Number: 09-07-C-00-GRK.

Application Type: Impose and use a PFC.

PFC Level: $4.50.

Total PFC Revenue Approved in this Decision: $2,300,000.

Charge Effective Date: March 1, 2010.

Estimated Charge Expiration Date: February 1, 2013.

Class of Air Carriers Not Required To Collect PFC's: Part 135 charter operators.

Determination: Approved. Based on information contained in the public agency's application, the FAA has determined that the approved class accounts for less than 1 percent of the total annual enplanements at Killeen—Fort Hood Regional Airport.

Brief Description of Projects Approved for Collection and Use:

Taxiway E reconstruction.

Baggage handling system improvements and expansion.

Security system upgrade and expansion.

Procure disabled passenger lift.

Flight information systems upgrade.

Common use departure gate equipment upgrade.

Blast pad.

Drainage improvements.

Administrative expenses.

Decision Date: September 30, 2009.

FOR FURTHER INFORMATION CONTACT: Glenn Boles, Texas Airports Development Office, (817) 222-5661.

Public Agency: City of Waco, Texas.

Application Number: 09-04-C-00-ACT.

Application Type: Impose and use a PFC.

PFC Level: $4.50.

Total PFC Revenue Approved in this Decision: $790,163.

Earliest Charge Effective Date: December 1, 2009.

Estimated Charge Expiration Date: April 1, 2012.

Class of Air Carriers Not Required To Collect PFC's: Non-scheduled/on-demand air carriers filing FAA Form 1800-31.

Determination: Approved. Based on information contained in the public agency's application, the FAA has determined that the approved class accounts for less than 1 percent of the total annual enplanements at Waco Regional Airport.

Brief Description of Projects Approved for Collection and Use:

Holdroom expansion.

Runways 14/32 and 1/19 safety area design and construction.

Install passenger loading bridges.

Acquire aircraft rescue and firefighting suits.

PFC preparation.

Decision Date: September 30, 2009.

FOR FURTHER INFORMATION CONTACT: Guillermo Villalobos, Texas Airports Development Office, (817) 222-5657.

Public Agency: State of Alaska/Department of Transportation and Public Facilities, Juneau, Alaska.

Application Number: 09-03-C-00-ANC.

Application Type: Impose and use a PFC.

PFC Level: $3.00.

Total PFC Revenue Approved in this Decision: $10,200,000.

Earliest Charge Effective Date: March 1, 2012.

Estimated Charge Expiration Date: July 1, 2015.

Class of Air Carriers Not Required To Collect PFC's: None.

Brief Description of Projects Approved for Collection and Use:

Acquire snow removal equipment.

Passenger terminal building renovations and upgrades.

Passenger terminal loading bridge replacement.

Apron reconstruction.

Decision Date: October 2, 2009.

FOR FURTHER INFORMATION CONTACT: Eric Helms, Alaska Region Airports Division, (907) 271-5202.

Public Agency: State of Hawaii, Honolulu, Hawaii.

Application Number: 09-04-C-00-HNL.

Application Type: Impose and use a PFC.

PFC Level: $4.50.

Total PFC Revenue Approved in this Decision: $105,909,130.

Earliest Charge Effective Date: January 1,2010.

Estimated Charge Expiration Date: February 1, 2014.

Class of Air Carriers Not Required To Collect PFC's: None.

Brief Description of Project Approved for Collection at Honolulu International Airport (HNL) and Use at Kahului Airport (OGG) at a $4.50 PFC Level: Taxiway A pavement improvements.

Brief Description of Project Approved for Collection at HNL and Use at OGG at a $3.00 PFC Level: Air cargo apron improvements, phase II.

Brief Description of Projects Approved for Collection at HNL and Use at HNL at a $4.50 PFC Level:

Taxiway Z structural improvements.

New airfield electrical vault.

Interisland maintenance facility site preparation.

Brief Description of Projects Approved for Collection at HNL and Use at HNL at a $3.00 PFC Level:

Electrical distributed generation system.

PFC administrative costs.

Decision Date: October 13, 2009.

FOR FURTHER INFORMATION CONTACT: Steve Wong, Honolulu Airports District Office, (808) 541-1225.

Public Agency: State of Hawaii, Honolulu, Hawaii.

Application Number: 09-04-C-00-OGG.

Application Type: Impose and use a PFC.

PFC Level: $4.50.

Total PFC Revenue Approved in this Decision: $24,663,770.

Earliest Charge Effective Date: January 1, 2010.

Estimated Charge Expiration Date: February 1, 2014.

Class of Air Carriers Not Required To Collect PFC's: None.

Brief Description of Project Approved for Collection at Kahului Airport (OGG) and Use at OGG at a $4.50 PFC Level: Taxiway A pavement improvements.

Brief Description of Project Approved for Collection at OGG and Use at OGG at a $3.00 PFC Level: Air cargo apron improvements, phase II.

Brief Description of Projects Approved for Collection at OGG and Use at Honolulu International Airport (HNL) at a $4.50 PFC Level:

Taxiway Z structural improvements.

New airfield electrical vault.

Interisland maintenance facility site preparation.

Brief Description of Projects Approved for Collection at OGG and Use at HNL at a $3.00 PFC Level:

Electrical distributed generation system.

PFC administrative costs.

Decision Date: October 13, 2009.

For Further Information Contact: Steve Wong, Honolulu Airports District Office, (808) 541-1225.

Public Agency: State of Hawaii, Honolulu, Hawaii.

Application Number: 09-04-C-00-KOA.

Application Type: Impose and use a PFC.

PFC Level: $4.50.

Total PFC Revenue Approved in this Decision: $7,254,050.

Earliest Charge Effective Date: January 1, 2010.

Estimated Charge Expiration Date: February 1, 2014.

Class of Air Carriers Not Required To Collect PFC's: None.

Brief Description of Project Approved for Collection at Kona International Airport at Keahole (KOA) and Use at Kahului Airport (OGG) at a $4.50 PFC Level: Taxiway A pavement improvements.

Brief Description of Project Approved for Collection at KOA and Use at OGG at a $3.00 PFC Level: Air cargo apron improvements, phase II.

Brief Description of Projects Approved for Collection at KOA and Use at Honolulu International Airport (HNL) at a $4.50 PFC Level:

Taxiway Z structural improvements.

New airfield electrical vault.

Interisland maintenance facility site preparation.

Brief Description of Projects Approved for Collection at KOA and Use at HNL at a $3.00 PFC Level:

Electrical distributed generation system.

PFC administrative costs.

Decision Date: October 13, 2009.

FOR FURTHER INFORMATION CONTACT: Steve Wong, Honolulu Airports District Office, (808) 541-1225.

Public Agency: State of Hawaii, Honolulu, Hawaii.

Application Number: 09-04-C-00-LIH.

Application Type: Impose and use a PFC.

PFC Level: $4.50.

Total PFC Revenue Approved in this Decision: $7,254,050.

Earliest Charge Effective Date: January 1, 2010.

Estimated Charge Expiration Date: February 1, 2014.

Class of Air Carriers Not Required To Collect PFC's: None.

Brief Description of Project Approved for Collection at Lihue Airport (LIH) And Use at Kahului Airport (OGG) at a $4.50 PFC Level: Taxiway A pavement improvements.

Brief Description of Project Approved for Collection at LIH and Use at OGG at a $3.00 PFC Level: Air cargo apron improvements, phase II.

Brief Description of Projects Approved for Collection at LIH and Use at Honolulu International Airport (HNL) at a $4.50 PFC Level:

Taxiway Z structural improvements.

New airfield electrical vault.

Interisland maintenance facility site preparation.

Brief Description of Projects Approved for Collection at LIH and Use at HNL at a $3.00 PFC Level:

Electrical distributed generation system.

PFC administrative costs.

Decision Date: October 13, 2009.

FOR FURTHER INFORMATION CONTACT: Steve Wong, Honolulu Airports District Office, (808) 541-1225.

Public Agency: Lexington-Fayette Urban County Airport Board, Lexington, Kentucky.

Application Number: 09-07-C-00-LEX.

Application Type: Impose and use a PFC.

PFC Level: $4.50.

Total PFC Revenue Approved in this Decision: $37,400,347.

Earliest Charge Effective Date: August 1, 2022.

Estimated Charge Expiration Date: February 1, 2038.

Class of Air Carriers Not Required To Collect PFC's: Air taxi/commercial operators filing FAA Form 1800-31.

Determination: Approved. Based on information contained in the public agency's application, the FAA has determined that the approved class accounts for less than 1 percent of the total annual enplanements at Blue Grass Airport.

Brief Description of Projects Approved for Collection and Use:

Replace runway 8/26.

Taxiway D relocation.

Terminal curb-front improvements.

PFC application development.

Brief Description of Projects Partially Approved for Collection and Use: Sanitary sewer improvements.

Determination: Partially approved for collection and use. The approval is limited to that portion of the improvements that serves eligible areas or facilities. Terminal interior renovation phase II.

Determination: Partially approved for collection and use. The FAA determined that the replacement of the existing ceiling system and wall finishes were maintenance items and not eligible development. Therefore, costs associated with these two work items, including financing costs, were disallowed.

Decision Date: October 15, 2009.

FOR FURTHER INFORMATION CONTACT: Cynthia Wills, Memphis Airports District Office, (901) 322-8190.

Public Agency: Huntsville-Madison County Airport Authority, Huntsville, Alabama.

Application Number: 09-16-C-00-HSV.

Application Type: Impose and use a PFC.

PFC Level: $4.50.

Total PFC Revenue Approved in this Decision: $5,007,823.

Earliest Charge Effective Date: May 1, 2010.

Estimated Charge Expiration Date: May 1, 2012.

Classes of Air Carriers Not Required To Collect PFC's:

(1) Air taxi/commercial operators having fewer than 500 annual passenger enplanements; (2) certified air carriers having fewer than 500 annual passenger enplanements; and (3) certified route air carriers having fewer than 500 annual passenger enplanements.

Determination: Approved. Based on information contained in the public agency's application, the FAA has determined that each approved class accounts for less than 1 percent of the total annual enplanements at Huntsville International Airport.

Brief Description of Projects Approved for Collection and Use:

Interactive training and workstations.

Western land.

Airfield/ramp rehabilitation.

Runway 18L136R overlay design and construction.

Personnel equipment and public safety radios.

Speed runway sweeper and airfield sweeper.

Master plan update.

Airfield erosion control phase I.

Runway 18R category II signage upgrade.

Group VI airfield improvements.

Snow plow vehicle.

New security system.

Snow equipment/storage.

Air traffic control tower relocation/connectivity.

Air cargo ramp expansion.

Decision Date: October 16, 2009.

FOR FURTHER INFORMATION CONTACT: Phillip Braden, Memphis Airports District Office, (901) 322-8181.

Public Agency: Greater Orlando Aviation Authority, Orlando, Florida.

Application Number: 09-13-C-00-MCO.

Application Type: Impose and use a PFC.

PFC Level: $3.00.

Total PFC Revenue Approved in this Decision: $227,788,000.

Earliest Charge Effective Date: November 1, 2020.

Estimated Charge Expiration Date: February 1, 2026.

Class of Air Carriers Not Required To Collect PFC's: None.

Brief Description of Projects Approved for Collection and Use:

Baggage system capacity improvements—phase I.

Landside terminal restroom improvements.

Automated people mover improvements.

Taxiway C rehabilitation.

Brief Description of Projects Partially Approved for Collection and Use: Common use self services and common use passenger processing systems improvements.

Determination: Partially approved for collection and use. Those kiosks which permit airlines to collect a fee for a ticket or service, upgrade, or any other collection of money from the passenger, is considered revenue producing and, thus, is not PFC eligible. Remote baggage screening facility improvements.

Determination: Partially approved for collection and use. A portion of the project, for which the public agency requested PFC funding was determined to be ineligible.

Decision Date: October 27, 2009.

FOR FURTHER INFORMATION CONTACT: Susan Moore, Orlando Airports District Office, (407) 812-6331.

Public Agency: City of Burlington, Vermont.

Application Number: 10-04-C-00-BTV.

Application Type: Impose and use a PFC.

PFC Level: $4.50.

Total PFC Revenue Approved in This Decision: $17,298,103.

Earliest Charge Effective Date: December 1, 2009.

Estimated Charge Expiration Date: March 1, 2014.

Class of Air Carriers Not Required To Collect PFC's: On demand air taxi commercial operators.

Determination: Approved. Based on information contained in the public agency's application, the FAA has determined that the approved class accounts for less than 1 percent of the total annual enplanements at Burlington International Airport.

Brief Description of Projects Approved for Collection and Use:

Expand and rehabilitate terminal building.

Extend roadway system.

South apron expansion.

Enclosed walkway.

Professional services.

Decision Date: October 28, 2009.

FOR FURTHER INFORMATION CONTACT: Priscilla Scott, New England Region Airports Division, (781) 238-7614.

Amendments to PFC Approvals
Amendment No., City, State | Amendment approved date | Original approved net PFC revenue | Amended approved net PFC revenue | Original estimated charge exp. date | Amended estimated charge exp. date
04-04-C-01-MSL, Muscle Shoals, AL | 09/24/09 | $57,355 | $54,730 | 04/01/09 | 04/01/09
08-09-C-01-VLD, Valdosta, GA | 09/24/09 | 30,300 | 89,427 | 12/01/09 | 07/01/10
06-09-C-01-JAX, Jacksonville, FL | 09/25/09 | 267,389,352 | 231,806,084 | 12/01/23 | 10/01/23
03-06-C-02-MLB, Melbourne, FL* | 09/25/09 | 6,806,435 | 6,806,435 | 09/01/17 | 03/01/19
08-08-C-02-JNU, Juneau, AK | 10/08/09 | 9,905,870 | 9,897,370 | 11/01/17 | 11/01/17
92-01-I-08-SRQ, Sarasota, FL | 10/08/09 | 13,945,012 | 13,944,391 | 01/01/01 | 01/01/01
95-02-U-05-SRQ, Sarasota, FL | 10/08/09 | NA | NA | 01/01/01 | 01/01/01
95-03-C-06-SRQ, Sarasota, FL | 10/08/09 | 1,100,000 | 750,061 | 04/01/02 | 04/01/02
02-06-C-08-MSY, New Orleans, LA | 10/13/09 | 271,336,494 | 271,336,494 | 12/01/17 | 09/01/18
04-07-C-04-MSY, New Orleans, LA | 10/13/09 | 75,182,406 | 92,998,206 | 10/01/17 | 04/01/22
07-03-C-01-TRI, Blountville, TN | 10/14/09 | 1,264,140 | 668,500 | 10/01/14 | 07/01/13
06-12-C-02-BNA, Nashville, TN * | 10/15/09 | 21,671,262 | 11,400,201 | 02/01/11 | 10/01/10
98-05-C-01-PHX, Phoenix, AZ | 10/16/09 | 193,445,920 | 147,875,677 | 04/01/02 | 04/01/02
02-06-C-01-PHX, Phoenix, AZ | 10/16/09 | 221,402,900 | 208,085,801 | 11/01/05 | 11/01/05
03-04-C-01-TYR, Tyler, TX | 10/26/09 | 2,140,662 | 1,437,855 | 02/01/17 | 10/01/11
Notes: The amendments denoted by an asterisk (*) include a change to the PFC level charged from $3.00 per enplaned passenger to $4.50 per enplaned passenger. For Melbourne, FL and Nashville, TN, this change is effective on December 1, 2009.

Issued in Washington, DC, on December 9, 2009.
Joe Hebert,
Manager, Financial Analysis and Passenger Facility Charge Branch.

[FR Doc. E9-29772 Filed 12-14-09; 8:45 am]

BILLING CODE 4910-13-M